DEPARTMENT OF LABOR

Employment And Training Administration

[TA-W-57,396]

The Levy Group Inc., New York, NY; Notice of Termination of Investigation

Pursuant to section 221 of the Trade Act of 1974, as amended, an investigation was initiated on June 16, 2005, in response to a petition filed by a union representative on behalf of workers at the Levy Group, Inc., New York, New York.

The petitioner has requested that the petition be withdrawn. Consequently, the investigation has been terminated.

Signed in Washington, DC this 25th day of July, 2005
Elliott S. Kushner,
Certifying Officer, Division of Trade Adjustment Assistance.

[FR Doc. E5-4397 Filed 8-11-05; 8:45 am]

BILLING CODE 4510-30-P